DEPARTMENT OF AGRICULTURE

Forest Service

Oregon Coast Provincial Advisory Committee

AGENCY: Forest Service, USDA.

ACTION: Notice of meeting.

SUMMARY: The Oregon Coast Province Advisory Committee will meet in Newport, OR, January 20, 2005. The theme of the meeting is Introduction/Overview/Business Planning. The agenda includes: RAC project discussion, overview of Salem RAC past/ongoing projects, overview of Eugene RAC past/ongoing projects, coast PAC recommendations for RAC projects they would like to see approved, overview of FY05 plan of work for each agency, public comment and round robin.

DATES: The meeting will be held January 20, 2005, beginning at 9 a.m.

ADDRESSES: The meeting will be held at the Hallmark Resort in Newport Oregon, 744 SW Elizabeth St. Newport, Oregon.

FOR FURTHER INFORMATION CONTACT: Joni Quarnstrom, Public Affairs Specialist, Siuslaw National Forest, 541-750-7075, or write Siuslaw National Forest Supervisor, P.O. Box 1148, Corvallis, OR 97339.

SUPPLEMENTARY INFORMATION: The meeting is open to the public, council Discussion is limited to Forest Service/BLM staff and Council Members. Lunch will be on your own. A public input session will be at 2:45 p.m. for fifteen minutes. The meeting is expected to adjourn around 3 p.m.

Dated: December 30, 2004.
Mary Zuschlag,
Supervisory Wildlife Biologist.

[FR Doc. 05-269 Filed 1-5-05; 8:45 am]

BILLING CODE 3410-11-M